DEPARTMENT OF JUSTICE

Antitrust Division

Motion to Modify Final Judgment and Memorandum in Support of Motion to Modify; United States v. Baroid Corp., et al.

Notice is hereby given that Smith International, Inc. (“Smith”) has filed with the United States District Court for the District of Columbia a motion to modify the judgment in United States v. Baroid Corporation, et al., Civil Action No. 93-2621. The Department has consented to modification of the Judgment but has reserved the right to withdraw its consent if it determines that, based upon comments filed or other information, consent to the modification is not in the public interest.

This case was filed on December 23, 1993, and alleged that the merger of Dresser Industries, Inc. (“Dresser”) and Baroid Corporation (“Baroid”) might substantially lessen competition in the United States in the manufacture and sale of two oil field service products, including drilling fluids, in violation of Section 7 of the Clayton Act. The Final Judgment was entered on April 12, 1994 and modified on September 19, 1996.

Under the Final Judgment, Dresser was required to divest either its 64 percent partnership interest in M-I Drilling Fluids Company or Baroid's wholly owned subsidiary, Baroid Drilling Fluids, Inc. Pursuant to the judgment, Dresser divested its partnership interest in M-I to Smith.

Paragraph IV.F. of the Final Judgment states that the purchaser of the divested drilling fluids business may not combine that business with any one of three named companies. One of those companies is Schlumberger Ltd. (“Schlumberger”). In July 1999, Smith formed a drilling fluids joint venture with Schlumberger, and the United States petitioned the United States District Court for the District of Columbia to find Smith and Schlumberger in civil and criminal contempt for violating the Final Judgment by forming the joint venture. In December 1999, the District Court found Smith and Schlumberger guilty of criminal contempt and imposed a $750,000 fine against each company. Smith and Schlumberger settled the civil contempt case, agreeing to disgorge a total of $13.1 million in joint venture profits.

Smith's motion proposes modifying the Final Judgment to remove Schlumberger from Paragraph IV.F. The United States has consented, subject to the comment period, to the modification as being in the public interest because of Schlumberger's failure to achieve more than 2 percent of the U.S. drilling fluid market in the six years since the Final Judgment was filed.

Copies of the Complaint and Judgment, the pleadings related to the 1996 modification, Smith's motion and supporting memorandum, and the United States' consent are available for inspection in Room 215, Antitrust Division, U.S. Department of Justice, 325 7th St., NW., Washington, DC 20530 and at the Office of the Clerk of the United States District Court for the District of Columbia, Third Street and Constitution Avenue, NW., Washington, DC 20001. Copies of any of these materials may be obtained upon request and payment of a copying fee.

Comments to the Department of Justice and to the Court regarding the proposed modification of the Final Judgment are invited from members of the public. They should be addressed to Roger W. Fones, Chief, Transportation, Energy and Agriculture Section, Antitrust Division, U.S. Department of Justice, Suite 500, 325 7th Street, NW., Washington, DC 20530 (202-307-6351.) Such comments must be received within 30 days.

Constance K. Robinson,
Director of Operations & Merger Enforcement, Antitrust Division.

[FR Doc. 00-1680 Filed 1-24-00; 8:45 am]

BILLING CODE 4410-11-M